DEPARTMENT OF HEALTH AND HUMAN SERVICES

Centers for Disease Control and Prevention

[Docket Number CDC-2016-0002; NIOSH-214]

Request for Information on NIOSH Center for Direct Reading and Sensor Technologies: Sensors for Emergency Response Activities; Extension of Comment Period

AGENCY: National Institute for Occupational Safety and Health (NIOSH) of the Centers for Disease Control and Prevention (CDC), Department of Health and Human Services (HHS).

ACTION: Notice and extension of comment period.

SUMMARY: On January 19, 2016, the Director of the National Institute for Occupational Safety and Health (NIOSH) of the Centers for Disease Control and Prevention (CDC), published a notice in the Federal Register [81 FR 2866] requesting information to enhance the value of the NIOSH Center for Direct Reading and Sensor Technologies entitled Request for Information on NIOSH Center for Direct Reading and Sensor Technologies: Sensors for Emergency Response Activities. Written comments were to be received by March 21, 2016. NIOSH is extending the public comment period until April 22, 2016.

DATES: NIOSH is extending the comment period on the document published January 21, 2016 (81 FR 2866). Electronic or written comments must be received by April 22, 2016.

ADDRESSES: You may submit comments, identified by CDC-2016-0002 and docket number NIOSH-214, by any of the following methods:

• Federal eRulemaking Portal: www.regulations.gov Follow the instructions for submitting comments.

• Mail: National Institute for Occupational Safety and Health, NIOSH Docket Office, 1090 Tusculum Avenue, MS C-34, Cincinnati, Ohio 45226-1998.

FOR FURTHER INFORMATION CONTACT: D. Gayle DeBord, NIOSH, Division of Applied Research and Technologies, Robert A. Taft Laboratories, 1090 Tusculum Avenue, MS-R2, Cincinnati, Ohio 45226, Phone: (513) 841-4256 [not a toll-free number], Email: GDeBord@cdc.gov.

Dated: February 26, 2016.
John Howard,
Director, National Institute for Occupational Safety and Health, Centers for Disease Control and Prevention.

[FR Doc. 2016-04963 Filed 3-7-16; 8:45 am]

BILLING CODE 4163-19-P